DEPARTMENT OF STATE

[Public Notice: 11295]

60-Day Notice of Proposed Information Collection: Grant Request Automated Submissions Program (GRASP)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to March 22, 2021.

ADDRESSES:

You may submit comments by any of the following methods:

• Web: Persons with access to the internet may comment on this notice by going to www.Regulations.gov. You can search for the document by entering “Docket Number: DOS-2020-0056” in the Search field. Then click the “Comment Now” button and complete the comment form.

• Email: Shearertp@state.gov.

• Regular Mail: Send written comments to: Thomas P. Shearer, Office of Overseas Schools, U.S. Department of State, Room H328, 2301 C Street NW, Washington, DC 20522-0132.

• Fax: 202-261-8224.

• Hand Delivery or Courier: Thomas P. Shearer, Office of Overseas Schools, U.S. Department of State, Room H328, 2401 E Street NW, Washington, DC 20037.

You must include the DS form number (if applicable), information collection title, and the OMB control number in any correspondence.

FOR FURTHER INFORMATION CONTACT: Direct requests for additional information regarding the collection listed in this notice, including requests for copies of the proposed collection instrument and supporting documents, to Thomas P. Shearer, Office of Overseas Schools, U.S. Department of State, Room H328, 2301 C Street NW, Washington, DC 20522-0132, who may be reached on 202-261-8201 or at Shearertp@state.gov.

SUPPLEMENTARY INFORMATION:

• Title of Information Collection: Grant Request Automated Submissions Program (GRASP)

• OMB Control Number: 1405-0036

• Type of Request: Extension of a Currently Approved Collection

• Originating Office: Bureau of Administration, A/OPR/OS

• Form Number: DS-0573, DS-0574, DS-0575, DS-0576

• Respondents: Recipients of grants

• Estimated Number of Respondents: 193

• Estimated Number of Responses: 193

• Average Time per Response: 90 minutes

• Total Estimated Burden Time: 289.5 hours

• Frequency: Annually

• Obligation to Respond: Required to Obtain or Retain a Benefit

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

In accordance with the Consolidated Overseas Schools Program as outlined in 2 FAM 610, the Office of Overseas Schools of the Department of State (A/OPR/OS) is responsible for determining that adequate educational opportunities exist at Foreign Service posts for dependents of U.S. Government personnel stationed abroad and for assisting American-sponsored overseas schools in demonstrating U.S. educational philosophy and practice. The information gathered enables A/OPR/OS to advise the Department and other foreign affairs agencies regarding current and constantly changing conditions, and enables A/OPR/OS to make judgments regarding assistance to schools for the improvement of educational opportunities.

The legal requirements that authorize the function of A/OPR/OS and thereby authorize the collection of information are the Foreign Assistance Act of 1961 (as amended), and the Mutual Educational and Cultural Affairs Act of 1961 (as amended), and the Department of State Basic Authorities Act of 1956, as amended by the Foreign Service Act of 1980, Public Law 96-465.

Methodology

Information is collected via electronic media.

Thomas P. Shearer,
Director, A/OPR/OS, Department of State.

[FR Doc. 2021-01046 Filed 1-15-21; 8:45 am]

BILLING CODE 4710-24-P